NUCLEAR REGULATORY COMMISSION

[NRC-2020-0153]

Changes to Subsequent License Renewal Guidance Documents Regarding Reactor Vessel Internal Components in Pressurized Water Reactors

AGENCY: Nuclear Regulatory Commission.

ACTION: Draft interim staff guidance; request for comment.

SUMMARY: The U.S. Nuclear Regulatory Commission (NRC) is soliciting public comment on draft interim staff guidance (ISG) that proposes changes to the NRC's subsequent license renewal guidance documents. Specifically, this ISG revises guidance contained in NUREG-2191, “Generic Aging Lessons Learned for Subsequent License Renewal (GALL-SLR) Report,” and NUREG-2192, “Standard Review Plan for Review of Subsequent License Renewal Applications for Nuclear Power Plants.” NUREG-2191 and NUREG-2192 were published in July 2017 and are not scheduled to be updated for several years. The proposed changes to these documents are contained in a draft ISG entitled, “Draft SLR-ISG-PWRVI-2020-XX; Updated Aging Management Criteria for Reactor Vessel Internal Components in Pressurized Water Reactors.”

DATES: Submit comments by September 2, 2020. Comments received after this date will be considered if it is practical to do so, but the Commission is able to ensure consideration only for comments received before this date.

ADDRESSES: You may submit comments by any of the following methods:

• Federal Rulemaking Website: Go to https://www.regulations.gov and search for Docket ID NRC-2020-0153. Address questions about NRC docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: William (Butch) Burton, Office of Nuclear Reactor Regulation, U.S. Nuclear Regulatory Commission, Washington, DC 20555-0001; telephone: 301-415-6332; email: William.Burton@nrc.gov.

SUPPLEMENTARY INFORMATION:

I. Obtaining Information and Submitting Comments

A. Obtaining Information

Please refer to Docket ID NRC-2020-0153 when contacting the NRC about the availability of information for this action. You may obtain publicly-available information related to this action by any of the following methods:

• Federal Rulemaking Website: Go to https://www.regulations.gov and search for Docket ID NRC-2020-0153.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. For the convenience of the reader, instructions about obtaining materials referenced in this document are provided in the “Availability of Documents” section.

• NRC's License Renewal Interim Staff Guidance Website: SLR-ISG documents are available online at https://www.nrc.gov/reading-rm/doc-collections/isg/license-renewal.html.

B. Submitting Comments

Please include Docket ID NRC-2020-0153 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

The NRC staff has completed its safety reviews of the first three Subsequent License Renewal Applications (SLRAs), for Turkey Point Nuclear Generating Units 3 and 4, Peach Bottom Atomic Power Station, Units 2 and 3, and Surry Power Station, Units 1 and 2. The NRC staff used the guidance contained in NUREG-2191, “Generic Aging Lessons Learned for Subsequent License Renewal (GALL-SLR) Report,” and NUREG-2192, “Standard Review Plan for Review of Subsequent License Renewal Applications for Nuclear Power Plants,” to conduct its SLRA safety reviews for those SLRAs. Through the first three SLRA reviews, the NRC staff, the Nuclear Energy Institute (NEI), and members of the nuclear industry identified potential changes to NUREG-2191 and NUREG-2192 to improve the effectiveness and efficiency of future SLRA safety reviews. Since March 2019, the NRC staff held several public meetings to consider lessons learned from these safety reviews and identify areas where the technical guidance in NUREG-2191 and NUREG-2192 could be improved or clarified and where new technical guidance was warranted. The meeting summaries and respective ADAMS Accession Numbers are listed under the “Availability of Documents” section of this document.

III. Specific Requests for Comments

The NRC is soliciting public comment on a draft ISG that proposes changes to the NRC's subsequent license renewal guidance in NUREG-2191 and NUREG-2192. NUREG-2191 and NUREG-2192 were published in July 2017 and are not scheduled to be updated for several years. The process of updating these NUREGs involves major review and evaluation by the staff, the nuclear industry, and the public and will take approximately five years once the process begins. Several SLRAs are scheduled for submittal to the NRC for review within the next two years. Issuance of this ISG is intended to provide improvements in the effectiveness and efficiency of the preparation and review of the SLRAs, and would become effective before the updates to NUREG-2191 and NUREG-2192 are completed.

The proposed changes to NUREG-2191 and NUREG-2192 are contained in a draft ISG that updates aging management criteria for PWR reactor vessel internal components. In addition, minor edits are proposed where errors were identified in the existing guidance.

Draft SLR-ISG-PWRVI-2020-XX, “Updated Aging Management Criteria for Reactor Vessel Internal Components in Pressurized Water Reactors”

The reactor vessel internal components ISG is titled, “Draft SLR-ISG-PWRVI-2020-XX; Updated Aging Management Criteria for Reactor Vessel Internal Components in Pressurized Water Reactors,” and is available in ADAMS under Accession No. ML20156A343. In addition to addressing lessons learned from the initial SLRA safety reviews, this draft ISG also incorporates the conclusions of the NRC staff's April 25, 2019 safety evaluation of Electric Power Research Institute Technical Report No. 3002017168, “Materials Reliability Program: Pressurized Water Internals Inspection and Evaluation Guidelines (MRP-227, Revision 1-A).” The NRC staff's safety evaluation for the MRP-227, Revision 1-A report may be accessed in ADAMS under Accession No. ML19081A001.

Draft SLR-ISG-PWRVI-2020-XX revises the following aging management guidance:

• Standard Review Plan—Subsequent License Renewal (SRP-SLR) Table 3.1-1, “Summary of Aging Management Programs for Reactor Vessel, Internals, and Reactor Coolant System Evaluated in Chapter IV of the GALL-SLR Report”.

• Generic Aging Lessons Learned for Subsequent License Renewal (GALL-SLR) Report Tables IV.B2, IV.B3, IV.B4, IV.E.

• SRP-SLR sections 3.1.2.2.9 and 3.1.3.2.9.

• Aging Management Program XI.M16A, “PWR Vessel Internals” and GALL-SLR Report Table XI-01, “FSAR Supplement Summaries for GALL-SLR Report Chapter XI Aging Management Programs”.

• GALL-SLR Report Table IX.C, “Use of Terms for Materials,” to add the term “Stellite”.

• SRP-SLR Table 4.7-1, “Examples of Potential Plant-Specific TLAA Topics”.

IV. Availability of Documents

The documents identified in the following table are available in ADAMS, as indicated.

Document | ADAMS accession No.
NUREG-2191, “Generic Aging Lessons Learned for Subsequent License Renewal (GALL-SLR) Report” | ML16274A389, ML16274A399
NUREG-2192, “Standard Review Plan for Review of Subsequent License Renewal Applications for Nuclear Power Plants” | ML16274A402
Draft SLR-ISG-PWRVI-2020-XX; Updated Aging Management Criteria for Reactor Vessel Internal Components in Pressurized Water Reactors | ML20156A343
MRP-227, Revision 1-A, “Materials Reliability Program: Pressurized Water Reactor Internals Inspection and Evaluation Guidelines” dated December 2019 | ML19339G350
Final Safety Evaluation For Electric Power Research Institute Topical Report MRP-227, Revision 1, “Materials Reliability Program: Pressurized Water Reactor Internals Inspection And Evaluations Guideline” dated April 2019 | ML19081A001
March 28, 2019, Summary Of Category 2 Public Meeting On Lessons Learned From The Review Of The First Subsequent License Renewal Applications | ML19112A206
Summary of December 12, 2019, Category 2 Public Meeting On Lessons Learned From The Review Of The First Subsequent License Renewal Applications. | ML20016A347
February 20, 2020, Summary of Category 2 Public Meeting on Lessons Learned from the Review of the First Subsequent License Renewal Applications | ML20076E074
Summary of March 25, 2020 Meeting with Industry Related to Revisions to Subsequent License Renewal Guidance Documents | ML20107F702
Summary of April 3, 2020 Meeting with Industry Regarding Changes to Subsequent License Renewal Guidance Documents | ML20107F733
Summary of April 7, 2020 Meeting with Industry Regarding Revisions to the Subsequent License Renewal Guidance Documents | ML20107F699

The NRC may post additional materials to the Federal Rulemaking website at https://www.regulations.gov under Docket ID NRC-2020-0153. The Federal Rulemaking website allows you to receive alerts when changes or additions occur in a docket folder. To subscribe: (1) Navigate to the docket folder (NRC-2020-0153); (2) click the “Sign up for Email Alerts” link; and (3) enter your email address and select how frequently you would like to receive emails (daily, weekly, or monthly).

Dated: July 28, 2020.
For the Nuclear Regulatory Commission.
Robert Caldwell,
Deputy Director, Division of New and Renewed Licenses, Office of Nuclear Reactor Regulation.

[FR Doc. 2020-16699 Filed 7-31-20; 8:45 am]

BILLING CODE 7590-01-P